FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011523-003.

Title: WWL/HUAL Space Charter Agreement.

Parties: Wallenius Wilhelmsen Lines AS, HUAL AS.

Synopsis: The agreement deletes Article 5.5, which gives the parties the authority to voluntarily agree on rates, rules, and conditions of their respective services.

Agreement No.: 011689-005.

Title: Zim/CSCL Space Charter Agreement.

Parties: Zim Israel Navigation Company, Ltd. (“Zim”), China Shipping Container Lines Co., Ltd. (“CSCL”).

Synopsis: The amendment deletes a vessel string from the agreement and revises CSCL's allocation on Zim's ZCS service and Zim's allocation on CSCL's AAS service.

Agreement No.: 200813-002.

Title: Broward/Universal Marine Terminal Agreement.

Parties: Broward County (Florida), Universal Maritime Service Corporation.

Synopsis: The amendment reflects a change of party through assignation and a change in demise. The agreement runs through September 28, 2013.

Dated: July 3, 2003.
By order of the Federal Maritime Commission.
Bryant L. VanBrakle,
Secretary.

[FR Doc. 03-17399 Filed 7-8-03; 8:45 am]

BILLING CODE 6730-01-P